NUCLEAR REGULATORY COMMISSION

Advisory Committee on the Medical Uses of Isotopes: Meeting Notice

AGENCY: U.S. Nuclear Regulatory Commission.

ACTION: Notice of meeting.

SUMMARY: NRC will convene a meeting of the Advisory Committee on the Medical Uses of Isotopes (ACMUI) on September 9-10, 2013. A sample of agenda items to be discussed during the public session includes: (1) An update on the 10 CFR Part 35 Rulemaking; (2) a discussion on the development of 10 CFR 35.1000 Guidance; (3) a discussion on the ACMUI reporting structure; (4) permanent implant brachytherapy guidance; (5) the Medical Events Subcommittee Report. The agenda is subject to change. The current agenda and any updates will be available at http://www.nrc.gov/reading-rm/doc-collections/acmui/meetings/2013.html or by emailing Ms. Sophie Holiday at the contact information below.

Purpose: Discuss issues related to 10 CFR part 35 Medical Use of Byproduct Material.

Date and Time for Closed Sessions: September 09, 2013, from 8:30 a.m. to 10:30 a.m. and September 10, 2013 from 8:30 a.m. to 10:30 a.m. The first session will be closed for ACMUI training. The second session will be closed so that ACMUI members can prepare for a Commission Briefing in October 2013.

Date and Time for Open Sessions: September 09, 2013, from 10:30 a.m. to 5:00 p.m. and September 10, 2013, from 10:30 a.m. to 5:00 p.m.

Address for Public Meeting: U.S. Nuclear Regulatory Commission, Two White Flint North Building, Room T2-B3, 11545 Rockville Pike, Rockville, MD 20852.

Public participation: Any member of the public who wishes to participate in the meeting in person or via phone should contact Ms. Holiday using the information below. The meeting will also be webcast live: video.nrc.gov.

CONTACT INFORMATION: Sophie J. Holiday, email: sophie.holiday@nrc.gov, telephone: (301) 415-7865.

Conduct of the Meeting

Bruce R. Thomadsen, Ph.D., will chair the meeting. Dr. Thomadsen will conduct the meeting in a manner that will facilitate the orderly conduct of business. The following procedures apply to public participation in the meeting:

1. Persons who wish to provide a written statement should submit an electronic copy to Ms. Holiday at the contact information listed above. All submittals must be received by September 2, 2013, and must pertain to the topic on the agenda for the meeting.

2. Questions and comments from members of the public will be permitted during the meeting, at the discretion of the Chairman.

3. The draft transcript and meeting summary will be available on ACMUI's Web site http://www.nrc.gov/reading-rm/doc-collections/acmui/meetings/2013.html on or about October 22, 2013.

4. Persons who require special services, such as those for the hearing impaired, should notify Ms. Holiday of their planned attendance.

This meeting will be held in accordance with the Atomic Energy Act of 1954, as amended (primarily Section 161a); the Federal Advisory Committee Act (5 U.S.C. App); and the Commission's regulations in Title 10, U.S. Code of Federal Regulations, Part 7.

Dated: July 1, 2013.
Andrew L. Bates,
Advisory Committee Management Officer.

[FR Doc. 2013-16433 Filed 7-9-13; 8:45 am]

BILLING CODE 7590-01-P